DEPARTMENT OF TRANSPORTATION

Coast Guard

46 CFR Part 151

[USCG-1999-5117]

RIN 2115-AF77

Barges Carrying Bulk Liquid Hazardous Material Cargoes

AGENCY: Coast Guard, DOT.

ACTION: Advance notice of proposed rulemaking; withdrawal.

SUMMARY: The Coast Guard is withdrawing its advance notice of proposed rulemaking concerning barges carrying bulk liquid hazardous material cargoes in order to focus its resources on rulemakings that more closely affect homeland security.

DATES: The advance notice of proposed rulemaking is withdrawn on April 23, 2002.

FOR FURTHER INFORMATION CONTACT: Mr. Thomas Felleisen, Hazardous Materials Standards Division, Coast Guard, telephone 202-267-0085.

SUPPLEMENTARY INFORMATION:

Background

On September 9, 1999, we published an advance notice of proposed rulemaking entitled “Barges Carrying Bulk Liquid Hazardous Material Cargoes” in the Federal Register (64 FR 48976). We requested comments on the type and scope of any necessary revisions to regulations affecting barges carrying bulk hazardous material cargoes.

Withdrawal

In the wake of the September 2001 terrorist attacks on the United States, the Coast Guard has had to reevaluate all of its on-going rulemakings to better focus on those affecting homeland security. We have decided to withdraw this project, as well as all other projects not directly related to homeland security that we do not expect to take significant action on during the coming year. All comments and documents received in this docket will be available for use in future rulemakings.

This action is taken under the authority of 33 U.S.C. 1903, 46 U.S.C. 3703, 49 CFR 1.46.

Dated: April 15, 2002.
Joseph J. Angelo,
Director of Standards, Marine Safety, Security and Environmental Protection.

[FR Doc. 02-9837 Filed 4-22-02; 8:45 am]

BILLING CODE 4910-15-P